ENVIRONMENTAL PROTECTION AGENCY

[EPA-HQ-OW-2011-0465; FRL-9984-51-OEI]

Information Collection Request Submitted to OMB for Review and Approval; Comment Request; Water Quality Standards Regulation (Renewal)

AGENCY: Environmental Protection Agency (EPA).

ACTION: Notice.

SUMMARY: The Environmental Protection Agency (EPA) has submitted an information collection request (ICR), Water Quality Standards Regulation (EPA ICR Number 0988.13, OMB Control Number 2040-0049), to the Office of Management and Budget (OMB) for review and approval in accordance with the Paperwork Reduction Act. This extension of the Water Quality Standards Regulation ICR (approved through June 30, 2019) also consolidates the burden and costs from two related ICRs: The Water Quality Standards Regulatory Revisions ICR (OMB Control Number 2040-0286, currently approved through December 31, 2018), and the Revised Interpretation of Clean Water Act Tribal Provision ICR (OMB Control Number 2040-0289, currently approved through July 31, 2019). Public comments on this ICR renewal and consolidation were requested via the Federal Register on June 15, 2018 during a 60-day comment period. This notice allows for an additional 30 days for public comments. A fuller description of this ICR is given below, including its estimated burden and cost to the public. An agency may not conduct or sponsor and a person is not required to respond to a collection of information unless it displays a currently valid OMB control number.

DATES: Additional comments may be submitted on or before November 13, 2018.

ADDRESSES: Submit your comments, referencing Docket ID Number EPA-HQ-OW-2011-0465, to (1) EPA online using www.regulations.gov (our preferred method), by email to ow-docket@epa.gov, or by mail to: EPA Docket Center, Environmental Protection Agency, Mail Code 28221T, 1200 Pennsylvania Ave. NW, Washington, DC 20460, and (2) OMB via email to oira_submission@omb.eop.gov. Address comments to OMB Desk Officer for EPA.

The EPA policy is that all comments received will be included in the public docket without change including any personal information provided, unless the comment includes profanity, threats, information claimed to be Confidential Business Information (CBI) or other information whose disclosure is restricted by statute.

FOR FURTHER INFORMATION CONTACT: Tanyan Bailey, Office of Water, Office of Science and Technology, Standards and Health Protection Division, (4305T), Environmental Protection Agency, 1200 Pennsylvania Ave. NW, Washington, DC 20460; telephone number: 202-564-3133; fax number: 202-566-0409; email address: bailey.tanyan@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about the EPA public docket, visit http://www.epa.gov/dockets.

Abstract: Water quality standards (WQS) are provisions of state, tribal, or federal law which consist of designated uses for waters of the United States, water quality criteria to protect those uses, and antidegradation requirements. WQS are established to protect public health or welfare, protect and enhance the quality of water, and serve the purposes of the Clean Water Act (CWA). Such standards serve the dual purposes of establishing the water quality goals for water bodies and serving as a regulatory basis for establishing water quality-based treatment controls and strategies beyond technology-based treatment required by CWA sections 301 and 306. The WQS regulation establishes the framework for states and authorized tribes to adopt standards, and for the EPA to review and approve or disapprove them. For the purposes of this ICR, the WQS regulation (or “regulation”) consists of 40 CFR part 131 (Water Quality Standards), and the portions of 40 CFR part 132 (Water Quality Guidance for the Great Lakes System) that are related to WQS. This ICR is for information collections needed to implement the WQS regulation, required to obtain or retain benefits (e.g., relaxed regulatory requirements) under the regulation, and to collect voluntary program information useful in administering WQS programs effectively and efficiently.

This ICR renews the WQS Regulation ICR, OMB Control Number 2040-0049, and consolidates the burden and costs associated with activities previously reported in the following two related ICRs: the WQS Regulatory Revisions ICR (OMB Control Number 2040-0286) and the Revised Interpretation of Clean Water Act Tribal Provision ICR (OMB Control Number 2040-0289) so that all WQS-related burden is covered by one ICR. Upon OMB approval, the remaining ICRs will be discontinued.

This ICR renewal and consolidation describes the estimated burden for states, authorized tribes and certain Great Lakes dischargers associated with the information collections related to: Implementation of the requirements of 40 CFR part 131 (WQS); implementation of the WQS portions of the 40 CFR part 132 (Water Quality Guidance for the Great Lakes System); tribal applications to be treated in a similar manner as a state (TAS) under CWA section 518(e); and state or tribal requests for dispute resolution under CWA section 518(e). This ICR also covers periodic requests to states and tribes for voluntary WQS information, and for voluntary participation in workgroups, to ensure efficient and effective administration of the WQS program and further cooperative federalism.

Form Numbers: None.

Respondents/affected entities: States, the District of Columbia, territories, authorized tribes with EPA approved Water Quality Standards, tribal estimated to apply for TAS to administer the WQS program; and dischargers located in the Great Lakes watershed.

Respondent's obligation to respond: Mandatory, required to obtain or retain benefits pursuant to the WQS regulation or voluntary.

Estimated number of respondents: 376.

Frequency of response: Once every three years; on occasion; once.

Total estimated burden: 505,387 hours per year. Burden is defined at 5 CFR 1320.03(b).

Total estimated cost: $23,017,849 per year, including $22,754,329 of labor costs and $263,520 of annualized operation and maintenance costs.

Changes in the Estimates: There is a decrease of 235,640 hours in the total estimated respondent burden compared with the total burden currently approved by OMB for all three ICRs. This is due to adjustments made to the EPA burden estimates based on experience gained since the previous ICRs were approved (e.g., using more realistic estimates of the number of WQS variance actions to be submitted annually).

Courtney Kerwin,
Director, Regulatory Support Division.

[FR Doc. 2018-22095 Filed 10-10-18; 8:45 am]

BILLING CODE 6560-50-P